DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 8, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on September 2, 2021.
Donald P. Burger,
Chief, General Approvals and Permits Branch.

Application No. | Applicant | Regulation(s) affected | Nature of the special permits thereof
Special Permits Data—Granted
12240-M | Spence Air Service | 172.200, 172.301(c), 172.301(d), 175.75(b), 175.310(a) | To modify the special permit to waive certain marking and shipping paper requirements.
13220-M | Entegris, Inc | 173.302, 173.302c | To modify the special permit by authorizing additional carbon steels specified for the cylindrical shell of the pressure vessel.
14661-M | FIBA Technologies, Inc | 180.209(a), 180.209(a), 180.209(b)(1), 180.209(b)(1)(iv) | To modify the special permit to authorize additional Division 2.1 and 2.2 hazmat.
20584-M | Battery Solutions, LLC | 173.185(f)(3), 173.185(c)(1)(iii), 173.185(c)(1)(iv), 173.185(c)(1)(v), 173.185(c)(3), 173.185(f), 173.185(f)(1), 173.185(a)(1) | To modify the special permit to authorize relief from the UN 38.3 testing and recordkeeping requirements of § 173.185(a).
20898-M | Rivian Automotive, LLC | 172.101(j), 173.185(a), 173.185(b)(3)(i), 173.185(b)(3)(ii) | To modify the special permit to authorize additional batteries and cargo vessel as a mode of transportation.
21025-M | Airgas USA, LLC | 173.301(a)(6), 180.205(c) | To modify the special permit to authorize an additional Division 2.2 hazmat.
21209-N | Atlas Air, Inc | 172.101(j) | To authorize the transportation in commerce of a material forbidden for transportation by air by cargo-only aircraft.
21229-N | Mercedes-Benz U.S. International, Inc | 172.101(j), 173.185(b)(6) | To authorize the transportation in commerce of certain lithium ion battery assemblies that exceed 35 kg aboard cargo-only aircraft.
21240-N | Volkswagen Group of America Chattanooga Operations, LLC | 172.101(j), 173.185(b)(1) | To authorize the transportation in commerce of lithium ion batteries exceeding 35 kg by cargo-only aircraft in alternative packaging.
21246-N | Ensign-Bickford Aerospace & Defense Co | 172.320(a), 173.51(a), 173.56(b) | To authorize the transportation in commerce of subassembly components of previously approved assemblies without subassembly components being tested, classed, and approved.
21256-N | Veolia Es Technical Solutions, LLC | 173.56(b) | To authorize the one-time, one-way transportation in commerce of unapproved explosives originating at Aberdeen Proving Ground and transported to Veolia's waste incinerator for final disposal located at in Sauget, Illinois.
21261-N | Korean Airlines Co., Ltd | 172.101(j)(1), 173.27(b)(2), 173.27(b)(3), 175.30(a)(1) | To authorize the transportation in commerce of certain explosives that are forbidden for transportation by cargo aircraft only.
21264-N | National Air Cargo Group, Inc | 172.101(j), 172.204(c)(3), 173.27(b)(2), 173.27(b)(3), 175.30(a)(1) | To authorize the transportation in commerce of certain Division 1.1, 1.2, 1.3 and 1.4 explosives which are forbidden or exceed quantities authorized for transportation by cargo aircraft only.
Special Permits Data—Denied
20279-M | City Carbonic LLC | 180.207(d)(1) | To modify the special permit to remove specific manufacturer applicability to the manufacture of authorized cylinders.
21062-N | Gas Innovations Inc | 171.23 | To authorize the transportation in commerce of pressure drums containing Hydrogen chloride, anhydrous, UN 1050 that do not meet the requalification requirement in § 171.23 for export.
21234-N | Air Liquide Advanced Materials Inc | 173.301 | To authorize the transportation in commerce of Dichlorosilane in non-DOT specification cylinders.
21263-N | Veolia Es Technical Solutions, LLC | 173.196(a) | To authorize the transportation in commerce of certain Monkeypox-contaminated medical waste to Veolia ES Technical Solutions, L.L.C.'s Port Arthur, TX incinerator for disposal.
Special Permits Data—Withdrawn
21276-N | Space Exploration Technologies Corp | 172.300, 172.400, 173.302(a) | To authorize the transportation in commerce of satellites containing krypton, compressed in non-DOT specification cylinders.
21277-N | Wampum Hardware Co | 178.703(a)(1) | To authorize the transportation in commerce of Ammonium Nitrate-Fuel Oil mixture in blank bags with alternative marking.

[FR Doc. 2021-19463 Filed 9-7-21; 8:45 am]

BILLING CODE 4909-60-P